DEPARTMENT OF TRANSPORTATION

Federal Transit Administration

Preparation of Environmental Impact Statement on Transit Improvements Between Denver and Golden, CO

AGENCY: Federal Transit Administration (FTA), U.S. Department of Transportation (DOT).

ACTION: Notice of intent to prepare an environmental impact statement.

SUMMARY: The Federal Transit Administration (FTA) is issuing this notice to advise agencies and the public that, in accordance with the National Environmental Policy Act, FTA and the Denver Regional Transportation District (RTD), in cooperation with the Denver Regional Council of Governments, will prepare an environmental impact statement (EIS) to evaluate transit improvements, including a potential light rail transit (LRT) line, in the West Corridor from Denver to Lakewood and Golden in Jefferson County, Colorado.

DATES: Three public scoping meetings, one meeting each in Denver, Lakewood, and Golden, Colorado, will be held in September 2001. Details as to the specific locations, dates, and times of the public scoping meetings will be advertised in local newspapers and other media. An interagency scoping meeting will be held on August 30, 2001 at 9 a.m. in the RTD Conference Room. See ADDRESSES below. Written comments on the scope of the EIS, including the alternatives to be considered and the impacts to be studied, may be sent to David Hollis, Project Manager, Regional Transportation District by October 14, 2001. See ADDRESSES below.

ADDRESSES: Written comments on the project scope should be sent to David Hollis, Project Manager, Regional Transportation District, Systems Planning Division, Planning and Development Department, 1600 Blake Street, Denver, Colorado 80202-1399. Telephone: 303-299-2404; fax: 303-299-2425. The interagency scoping meeting on August 30, 2001 at 9 a.m. will be in the RTD Conference Room, Alamo Building, Suite 560, 1401 Seventeenth Street, Denver, Colorado 80202. All scoping meetings will be held in wheelchair-accessible locations.

FOR FURTHER INFORMATION CONTACT: Mr. David Beckhouse, Community Planner, Federal Transit Administration, (303) 844-3242.

SUPPLEMENTARY INFORMATION

I. Scoping

FTA and RTD will establish the scope of the EIS for the West Corridor after evaluating the results of the Major Investment Study (MIS) for the corridor completed in July 1997, after consulting with Federal, State, and local resource and regulatory agencies through meetings and correspondence, and after hearing from the general public. Interested individuals, organizations, and agencies are invited to participate in defining the alternatives to be evaluated and related issues of concern. A summary of the MIS and its results is available for public review at the following public libraries: Denver Central Library (10 West 14th Avenue, Denver), Lakewood Library (10200 West 20th Avenue, Lakewood), and Golden Library (1019 10th Street, Golden). The MIS summary is will also be available on the project website at www.rtdwestcorridor.com after September 1, 2001, or by contacting David Hollis, the RTD project manager, at the address and phone numbers given above under ADDRESSES. Also contact Mr. Hollis to be placed on the project mailing list and receive information about the public scoping meetings and the project newsletter. Written comments on the alternatives and potential impacts to be considered should be sent to David Hollis of RTD.

II. Description of Corridor and Transportation Needs

Federal transit law requires that projects proposed for FTA funding come from a long range metropolitan transportation plan that is fiscally constrained and conforms to State air quality plans. The Denver Regional Transportation Plan (RTP) identifies additional capacity for east-west travel in the West Corridor as one of the most needed projects that is affordable by the region over the next 20 years. Because the Denver region is an air quality non-attainment area for carbon monoxide and small particulate matter (PM-10), the RTP must consider air quality in its prioritization of transportation projects for the region. The RTP identifies the need for transit improvements in the West Corridor to address existing as well as projected congestion and to improve air quality, or at least to not degrade it any further. The West Corridor Transit Project is included in the Transportation Improvement Plan (TIP).

III. Proposed Action

The EIS scoping process will include an evaluation of the results of the MIS for the West Corridor completed in July 1997, which looked at several alternatives to handle the travel demand in the West Corridor, within the boundaries of Alameda Avenue and 26th Avenue and the city of Golden and the Central Business District (CBD) of Denver. The locally preferred alternative (LPA) of the MIS was LRT on new double tracks from the CBD along the existing right-of-way of the former Associated Railroad and Denver Interurban Transit line. This right-of-way runs west from Denver to Lakewood generally between 12th and 13th Avenues to the Cold Spring Park-n-Ride at 6th Avenue and Simms. The LRT line would continue west of the Cold Spring Park-n-Ride to a location near the junction of US 6 and US 40. The LRT line will also have to cross the South Platte River to connect with the Central Platte Valley Corridor LRT line currently under construction. Roadway, pedestrian and bike improvements were included in the LPA, with improved passenger waiting areas at bus stops, a multiple-use trail, and sidewalk improvements. Modifications to bus service in the West Corridor were also proposed in the LPA, including new circulator and feeder routes to connect residential and employment areas of the corridor with the LRT system. Transit service to and from the CBD and the West Corridor neighborhoods would be improved during peak travel periods. These recommendations were approved by Denver Regional Council of Governments and included in the fiscally constrained RTP and the MetroVision 2020 master plan.

IV. Public Involvement

A comprehensive public involvement program has been developed. The program includes a project web site (www.rtdwestcorridor.com); outreach to local and county officials and community and civic groups; a public scoping process to define the issues of concern among all parties interested in the project; a public hearing on release of the draft environmental impact statement (DEIS); establishment of walk-in project offices in the corridor; and development and distribution of project newsletters.

V. Alternatives

FTA and RTD propose that the EIS evaluate the following three alternatives. The no-action alternative is the option of implementing nothing more than the existing and committed road and transit systems. The TSM alternative includes various transportation improvements beyond the existing and committed projects plus enhanced bus transit service in the West Corridor. The MIS LPA will be evaluated as the proposed project. This alternative includes an LRT line extending from the Central Platte Valley Corridor across the South Platte River west along the existing Associated Railroad right-of-way to the Cold Spring Park-n-Ride facility and extending further west along a new right-of-way to a location near the junction of US 6 and US 40. The EIS will also consider any additional reasonable alternatives identified during scoping that provide similar transportation benefits while reducing or avoiding adverse impacts.

VI. Probable Effects and Potential Impacts for Analysis

The FTA and RTD will evaluate all environmental, social, and economic impacts of the alternatives analyzed in the EIS. The impact areas to be addressed include land use; visual/aesthetic values; ecosystems; mineral resources; cultural and historical resources; water quality, floodplains, and drainage; air quality; noise and vibration; traffic and parking; hazardous materials; utilities; energy use and conservation; public safety and security; and community and economic impacts. The EIS will evaluate potential environmental justice issues as well as secondary, cumulative, and construction-related impacts. The need for right-of-way acquisitions and relocations will also be evaluated. Alternative alignments, designs, station locations, and other measures to avoid, minimize, and mitigate adverse impacts will be developed and evaluated.

VII. FTA Procedures

In accordance with FTA policy, all Federal laws, regulations, and executive orders affecting project development, including but not limited to the regulations of the Council on Environmental Quality and FTA implementing NEPA (40 CFR parts 1500-1508, and 23 CFR part 771), the 1990 Clean Air Act Amendments, Section 404 of the Clean Water Act, Executive Order 12898 regarding environmental justice, the National Historic Preservation Act, the Endangered Species Act, and Section 4(f) of the DOT Act, will be addressed to the maximum extent practicable during the NEPA process. In addition, RTD seeks § 5309 New Starts funding for the project and will therefore be subject to the FTA New Starts regulation (49 CFR part 611). This New Starts regulation requires the submission of certain specified information to FTA to support an RTD request to initiate preliminary engineering, which is normally done in conjunction with the NEPA process.

Dated: August 7, 2001.
Lee O. Waddleton,
FTA Regional Administrator.

[FR Doc. 01-20152 Filed 8-9-01; 8:45 am]

BILLING CODE 4910-57-P